DEPARTMENT OF ENERGY

National Energy Technology Laboratory; Notice of Availability of a Funding Opportunity Announcement

AGENCY: National Energy Technology Laboratory, Department of Energy (DOE).

ACTION: Notice of availability of a funding opportunity announcement.

SUMMARY: Notice is hereby given of the intent to issue Funding Opportunity Announcement No. DE-PS26-04NT42031 entitled “Support of Advanced Fossil Resource Conversion and Utilization Research by Historically Black Colleges and Universities and Other Minority Institutions.” The Department of Energy announces that it intends to conduct a competitive Funding Opportunity Announcement and award Financial Assistance (Grants) to U.S. Historically Black Colleges and Universities (HBCU) and Other Minority Institutions (OMI) in support of innovative research and development of advanced concepts pertinent to fossil resource conversion and utilization. Applications will be subjected to a comprehensive technical review and awards will be made to a select number of applicants based on the scientific merit of the application, relevant program policy factors, and the availability of funds. Collaboration with private industry is encouraged.

DATES: The Funding Opportunity Announcement will be available on the “Industry Interactive Procurement System” (IIPS) Web page located at http://e-center.doe.gov in the first quarter of Fiscal Year 2004. Applicants can obtain access to the Funding Opportunity Announcement from the address above or through DOE/NETL's Web site at http://www.netl.doe.gov/business.

FOR FURTHER INFORMATION CONTACT: Sue Miltenberger, MS I07, U.S. Department of Energy, National Energy Technology Laboratory, P.O. Box 880, 3610 Collins Ferry Road, Morgantown, WV 26507-0880, E-mail Address: Susan.Miltenberger@netl.doe.gov, Telephone Number: (304) 285-4083.

SUPPLEMENTARY INFORMATION: Approximately $1.0 million of DOE funding is planned to award between 5 to 7 projects from this Financial Opportunity Assistance. Awards are expected to be made in the third quarter of Fiscal Year 2004.

The intent of the Fossil Energy HBCU/OMI Program is to establish a mechanism for cooperative HBCU/OMI research and development projects; to provide faculty and student support at the institutions; to foster private sector participation and interaction with HBCU/OMIs in fossil energy research and development; to provide for the exchange of technical information; to raise the overall level of competitiveness by the HBCU/OMIs with other institutions in the field of fossil research; and to increase the number of opportunities in the areas of science, engineering and technical management for HBCU/OMIs. The collaborative involvement of HBCU/OMIs and the private sector help to ensure a future supply of technically competent managers, scientists, engineers, and technicians. The Program will also serve to maintain and upgrade the educational, training, and research capabilities of our HBCU/OMIs in the fields of science, engineering, and technical management, and provide the talent for an improved utilization of the nation's fossil fuel resources.

Therefore, the DOE's National Energy Technology Laboratory (NETL) invites HBCU/OMIs, in collaboration with the private sector, to submit applications for innovative research and development of advanced concepts related to fossil energy utilization and conversion. The overall purpose of this collaborative effort is to improve prospective U.S. commercial capabilities, and to increase scientific and technical understanding of the chemical and physical processes involved in the conversion and utilization of fossil fuels, thereby broadening fossil resource and technology benefits to our commerce and the consumer. Thus, HBCU/OMI faculty members and their institutions, in collaboration with the private sector, are strongly encouraged to undertake fossil energy-related research and development. Pursuant to 10 CFR 600.6(b), eligibility for award under the subject Solicitation is restricted to HBCU/OMIs. HBCU/OMIs are defined by the Office of Civil Rights (OCR), U.S. Department of Education. The Web site address for the OCR list is http://www.ed.gov/about/offices/list/ocr/edlite-minorityinst.html. Statutory authority for this Program is provided by Public Law 95-224, as amended by 97-258.

Grant applications are sought in innovative research and development of advanced concepts pertinent to fossil fuel conversion and utilization in the eight (8) technical topics specified below. The Technical Topics have undergone revision from previous Solicitations due to recent changes in the energy industry and the realignment of the Office of Fossil Energy. Technical Topics 1 through 7 are considered to be in the HBCU/OMI Core Program. The Core Program is intended to maintain and upgrade educational, training, and research capabilities. Private section collaboration is strongly encouraged in the Core Program. Technical Topic No. 8 is considered to be in the Faculty/Student Exploratory Research Training Grant Program.

While all Technical Topics are of importance to the Fossil Energy programs, areas which are emerging as higher priority include the following: (a) Problems related to Global Climate Change and Greenhouse gases (especially carbon dioxide); (b) Materials (as related to advanced power system components and advanced separations); (c) Catalysis (for improved reaction chemistry, higher efficiencies, short residence times, etc.); (d) Computer Modeling (especially related to Advanced Power System scenarios for fossil energy, and advanced Coal Characterization related to fossil and biomass carbon as a feedstock, solid fuels, and co-processing); (e) Control and Characterization of Mercury and fine particulate (PM2.5); (f) Computer Enhancements and Reservoir Modeling as related to oil and gas recovery; (g) Continued Emphasis on flooding issues and geoscience as related to improved oil and gas recovery technologies; and (h) Optimization for Oil Well Completions and Stimulations. Prospective applicants should be aware of the technical issues that NETL considers a higher priority to the HBCU/OMI Program at this time as they may be used in guiding the selection of products for award.

Technical Topic 1—Advanced Environmental Control Technologies for Coal

Technical Topic 2—Advanced Coal Utilization

Technical Topic 3—Clean Fuels Technology

Technical Topic 4a—Heavy Oil Upgrading and Processing

Technical Topic 4b—Oil Sands

Technical Topic 5—Advanced Recovery, Completion/Stimulation, and Geoscience Technologies for Oil

Technical Topic 6—Natural Gas Supply, Storage and Processing

Technical Topic 7—Fuel Cells

Technical Topic 8—Faculty/Student Exploratory Research Training Grants

This is the only topic [Topic eight (8)] under this Program Solicitation that does not have private sector collaboration as a goal in consideration of an application.

Once released, the solicitation will be available for downloading from the IIPS Internet page. At this Internet site you will also be able to register with IIPS, enabling you to submit an application. If you need technical assistance in registering or for any other IIPS function, call the IIPS Help Desk at (800) 683-0751 or E-mail the Help Desk personnel at IIPS_HelpDesk@e-center.doe.gov. The solicitation will only be made available in IIPS, no hard (paper) copies of the solicitation and related documents will be made available. Telephone requests, written requests, E-mail requests, or facsimile requests for a copy of the solicitation package will not be accepted and/or honored. Applications must be prepared and submitted in accordance with the instructions and forms contained in the solicitation. The actual solicitation document will allow for requests for explanation and/or interpretation.

Issued in Morgantown, WV on October 17, 2003.
Dale A. Siciliano,
Director, Acquisition and Assistance Division.

[FR Doc. 03-27019 Filed 10-24-03; 8:45 am]

BILLING CODE 6450-01-P